OFFICE OF NATIONAL DRUG CONTROL POLICY

Information Collection; Paperwork Reduction Act; 60-Day Notice

AGENCY: Office of National Drug Control Policy.

ACTION: 60-Day Notice of Information Collection; Public Comment.

Pursuant to the Paperwork Reduction Act and in accordance with 5 CFR 1320.10, the Office of National Drug Control Policy (ONDCP), Executive Office of the President, submits the following information collection request for review and approval by the Office of Management and Budget.

Overview of the information collection activity:

(1) Type of Information Collection: New Collection.

(2) Title of the Form/Collection: Arrestee Drug Abuse Monitoring (ADAM II) Program Questionnaire.

(3) ONDCP Form Number 3201-0016. Office of National Drug Control Policy.

(4) Affected public: A probability based sample of persons arrested in selected booking facilities in five U.S. counties. Data is collected during a 3-week period in each county. The total effort will be conducted within three months.

Abstract: The ADAM II survey will collect data concerning the personal drug use, drug and alcohol treatment, arrests, and drug market participation of the arrestee. Data will be collected from a sample of 350 arrestees in each of the five counties. Data collected include a personal interview and urine specimen taken within 48 hours of arrest. Participation is voluntary and confidential.

Key study goals are to:

(1) Provide data on drug use in particular areas of the county that is directly comparable to data collected from 2000-20003 in ADAM;

(2) Obtain consistent data collection points to support statistical trend analysis for the use of heroin, cocaine, crack, marijuana and methamphetamine;

(3) Provide data used to support the Office of National Drug Control Policy's efforts to estimate chronic drug use and examine market behavior;

(4) Estimate of the total number of respondents and the average respondent burden: The estimated number of respondents is 1750, 350 per data collection cycle in five sites. Based on the prior ADAM data collection information and estimates of any instrument changes, it is estimated that the survey will take an average of approximately 26 minutes to complete.

Estimate of the total public burden (in hours) associated with this collection: An estimated 765 hours of public burden is associated with this collection.

Written comments and suggestions from the public and affected agencies concerning proposed collection of information are encouraged. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; or

(4) Minimize the burden of the collection of information on those who are to respond, including through the use of appropriate automated, electronic, mechanical, or other technological collection techniques or other forms of information technology, e.g., permitting electronic submission of responses.

You may submit comments to, or request additional information from, Fe Caces, Office of National Drug Control Policy, Washington, DC 20503 or by email to MCaces@ONDCP.EOP.GOV.

Submitted January 11, 2013.
Daniel R. Petersen,
Deputy General Counsel.

[FR Doc. 2013-00857 Filed 1-16-13; 8:45 am]

BILLING CODE 3180-02-P